INTERNATIONAL TRADE COMMISSION

[Investigation No. 731-TA-893 (Third Review)]

Honey From China

Determination

On the basis of the record ¹ developed in the subject five-year review, the United States International Trade Commission (“Commission”) determines, pursuant to the Tariff Act of 1930 (“the Act”), that revocation of the antidumping duty order on honey from China would be likely to lead to the continuation or recurrence of material injury to an industry in the United States within a reasonably foreseeable time.²

¹ The record is defined in sec. 207.2(f) of the Commission's Rules of Practice and Procedure (19 CFR 207.2(f)).

² Commissioner Jason E. Kearns did not participate.

Background

The Commission, pursuant to section 751(c) of the Act (19 U.S.C. 1675(c)), instituted this review on November 1, 2017 (82 FR 50683) and determined on February 5, 2018 that it would conduct an expedited review (83 FR 11562, March 15, 2018).³

³ Vice Chairman David S. Johanson voted to conduct a full review in light of the time that transpired since the Commission last conducted a full investigation in this matter.

The Commission made this determination pursuant to section 751(c) of the Act (19 U.S.C. 1675(c)). It completed and filed its determination in this review on April 16, 2018. The views of the Commission are contained in USITC Publication 4776 (April 2018), entitled Honey from China: Investigation No. 731-TA-893 (Third Review).

By order of the Commission.
Issued: April 16, 2018.
William Bishop,
Supervisory Hearings and Information Officer.

[FR Doc. 2018-08220 Filed 4-18-18; 8:45 am]

BILLING CODE 7020-02-P